DEPARTMENT OF LABOR

Employment and Training Administration

[TA-W-53,988 and TA-W-53,988A]

Coperion Corporation, Ramsey, NJ, Coperion Corporation, Carol Stream, IL; Amended Certification Regarding Eligibility to Apply for Worker Adjustment Assistance and Alternative Trade Adjustment Assistance

In accordance with section 223 of the Trade Act of 1974 (19 U.S.C. 2273) the Department Labor issued a Certification of Eligibility to Apply for Worker Adjustment Assistance and Alternative Trade Adjustment Assistance on January 14, 2004, applicable to workers of Coperion Corporation, Ramsey, New Jersey. The notice was published in the Federal Register on February 6, 2004 (69 FR 5867).

At the request of the State agency, the Department reviewed the certification for workers of the subject firm. The workers are engaged in the production of extrusion equipment.

New findings show that worker separations occurred at the Carol Stream, Illinois facility of the subject firm. Workers at the Carol Stream, Illinois facility provide sales function services supporting the production of extrusion equipment at the Ramsey, New Jersey location of the subject firm

Accordingly, the Department is amending the certification to cover workers at Coperion Corporation, Carol Stream, Illinois.

The intent of the Department's certification is to include all workers of Coperion Corporation who were adversely affected by increased imports.

The amended notice applicable to TA-W-53,988 is hereby issued as follows:

All workers of Coperion Corporation, Ramsey, New Jersey (TA-W-53,988) and Coperion Corporation, Carol Stream, Illinois (TA-W-53,988A), who became totally or partially separated from employment on or after January 5, 2003, through January 14, 2006, are eligible to apply for adjustment assistance under section 223 of the Trade Act of 1974, and are also eligible to apply for alternative trade adjustment assistance under section 246 of the Trade Act of 1974.

Signed in Washington, DC this 26th day of April, 2004.
Richard Church,
Certifying Officer, Division of Trade Adjustment Assistance.

[FR Doc. E4-1064 Filed 5-7-04; 8:45 am]

BILLING CODE 4510-13-P